ENVIRONMENTAL PROTECTION AGENCY

[FRL-7989-6]

College Grove Battery Chip Superfund Site; Notice of Proposed Settlement

AGENCY: Environmental Protection Agency (EPA).

ACTION: Notice of cost recovery settlement.

SUMMARY: Under section 122(h)(1) of the Comprehensive Environmental Response Compensation and Liability Act (CERCLA), the Environmental Protection Agency has offered a cost recovery settlement at the College Grove Battery Chip Superfund Site (Site) located in College Grove, Williamson/Rutherford Counties, Tennessee. EPA will consider public comments on the proposed settlement until November 28, 2005. EPA may withdraw from or modify the proposed settlement should such comments disclose facts or considerations which indicate the proposed settlement is inappropriate, improper, or inadequate.

Copies of the proposed settlement are available from: Ms. Paula V. Batchelor, U.S. Environmental Protection Agency, Region 4, Superfund Enforcement & Information Management Branch, Waste Management Division, 61 Forsyth Street, South West, Atlanta, Georgia 30303, (404) 562-8887, E-mail: Batchelor.Paula@EPA.gov.

Written or e-mail comments may be submitted to Paula V. Batchelor at the above address within 30 days of the date of publication.

Dated: October 12, 2005.
De'Lyntoneus Moore,
Acting Chief, Superfund Enforcement & Information Management Branch, Waste Management Division.

[FR Doc. 05-21459 Filed 10-26-05; 8:45 am]

BILLING CODE 6560-50-P